DEPARTMENT OF AGRICULTURE

Food and Nutrition Service

Agency Information Collection Activities: Proposed Collection; Comment Request—Form FNS-380-1, Supplemental Nutrition Assistance Program's Quality Control Review Schedule

AGENCY: Food and Nutrition Service, USDA.

ACTION: Notice.

SUMMARY: As required by the Paperwork Reduction Act of 1995, this notice invites the general public and other public agencies to comment on proposed information collection of Form FNS-380-1, Supplemental Nutrition Assistance Program's Quality Control Review Schedule. The proposed collection is a revision of collection currently approved under OMB No. 0584-0299.

DATES: Written comments must be submitted on or before October 19, 2009.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology.

Comments may be sent to: Tiffany Susan Wilkinson, Program Analyst, Quality Control Branch, Program Accountability and Administration Division, Food and Nutrition Service, U.S. Department of Agriculture, 3101 Park Center Drive, Room 822, Alexandria, VA 22302. You may also download an electronic version of this notice at http://www.fns.usda.gov/fsp/rules/regulations/default.htm and comment via e-mail at SNAPHQ-Web@fns.usda.gov or use the Federal e-Rulemaking Portal. Go to http://www.regulations.gov and follow the online instructions for submitting comments electronically.

All written comments will be open for public inspection at the office of the Food and Nutrition Service during regular business hours (8:30 a.m. to 5 p.m. Monday through Friday) at 3101 Park Center Drive, Room 822, Alexandria, Virginia 22302.

All responses to this notice will be included in the request for Office of Management and Budget approval. All comments will also become a matter of public record.

FOR FURTHER INFORMATION CONTACT: Requests for additional information or copies of the information collection form and instruction should be directed to Tiffany Susan Wilkinson at (703) 305-2410.

SUPPLEMENTARY INFORMATION: Title: Quality Control Review Schedule.

OMB Number: 0584-0299.

Expiration Date: January 31, 2010.

Type of Request: Revision of a currently approved collection.

Abstract: FNS 380-1 is the Supplemental Nutrition Assistance Program's (SNAP) Quality Control (QC) Review Schedule which collects QC and household characteristics data. The information needed to complete this form is obtained from the SNAP case record and state quality control findings. The information is used to monitor and reduce errors, develop policy strategies, and analyze household characteristic data. We estimate that it takes 1.05 hours per response and .0236 hours per record for recordkeeping to complete the form.

The annual reporting burden for this collection is 58,065 hours and the annual recordkeeping burden for this collection is 1,322 hours. Overall, the annual reporting and recordkeeping burden associated with the completion of the FNS 380-1 is being decreased from 61,352 hours to 58,868 hours. This is a 2,484 hour decrease in the current burden, which is a result of the State agencies' reduction in the number of cases being pulled for review over the minimum required review amount. We previously cleared the reporting and recordkeeping burden for this form under Office of Management and Budget (OMB) clearance number 0584-0299. OMB approved the burden through January 31, 2010. Based on the most recent table of active case sample sizes and completion rates (FY 2007), we estimate 56,065 FNS 380-1 worksheets and interviews will now be completed annually.

Affected Public: Individuals or Households.

Estimated Number of Reporters: 56,065 households.

Estimated Number of Reports per Household: 1.

Estimated Hours per Report: 1.05 hours.

Total Annual Reporting Burden: 58,868 hours.

Affected Public: State or local governments.

Estimated Number of Respondents and Record keepers: 53 State agencies.

Estimated Total Number of Responses per Year: 56,065 responses.

Estimated Hours per Reporting Response: 1.05 hours.

Estimated Number of Records: 56,065 records.

Estimated Number of Records per Record keeper: 1,057 records.

Estimated Total Reporting: 58,868.

Estimated Hours per Recordkeeping: 0.0236 hour.

Estimated Total Annual Record Keeping Burden: 1,322 hours.

Total Annual Reporting and Record Keeping Burden: 60,190 hours.

Estimated Grand Total: 119,058.

Dated: August 11, 2009.
Julia Paradis,
Administrator, Food and Nutrition Service.

[FR Doc. E9-19844 Filed 8-18-09; 8:45 am]

BILLING CODE 3410-30-P